COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List product(s) and/or service(s) to be furnished by nonprofit agencies employing persons who are blind or have other severe disabilities, and to delete product(s) and/or service(s) previously furnished by such agencies.

Comments Must Be Received On or Before: September 7, 2008.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Kimberly M. Zeich, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

Coffee, Roasted, 39-oz Resealable Pouch

NSN: 8955-01-E60-8859—S & D,

NSN: 8955-01-E61-3689—Sara Lee,

NSN: 8955-01-E61-3688—Maxwell House.

NPA: CW Resources, Inc., New Britain, CT.

Contracting Activity: Defense Logistic Agency, Defense Supply Center Philadelphia, Philadelphia, PA.

Coverage: C-List for the Government requirement of the Defense Supply Center Philadelphia, Philadelphia, PA.

Services

Service Type/Location:

Combined Facilities Maintenance

Armed Forces Reserve Center, 251 Rudy Chase Drive, Glenville, NY.

Naval & Marine Corps Reserve Center, 439 Paul Road, Rochester, NY.

Naval & Marine Corps Reserve Center, 3 Porter Avenue, Buffalo, NY.

Naval Reserve Center Syracuse, 5803 East Molloy Road, Mattydale, NY.

NPA: Human Technologies Corporation, Utica, NY.

Contracting Activity: Department of the Navy, U.S. Fleet Forces Command, Norfolk, VA.

Service Type/Location:

Janitorial Services

Marine Corps Base Hawaii, Basewide, Kaneohe Bay, HI.

NAVMAG Lualualei, Basewide, Waianae, HI.

NCTAMS, Naval Computer and Telecommunications Area Master, Wahiawa, HI.

Kalaeloa Air Station, Basewide, Kalaeloa, HI.

Iroquois Point Housing, Basewide, Iroquois Point, HI.

NAVMAG West LOCH, Basewide, Waianae, HI.

Camp Catlin, Basewide, Kailua, HI.

Moanalua Terrace, US Navy Moanalua Terrace, Moana Terrace, HI.

Ford Island, Naval Air Station, Ford Island Pearl Harbor, Honolulu, HI.

NPA: Opportunities for the Retarded, Inc., Wahiawa, HI.

Contracting Activity: Department of the Navy, NAVFAC Engineering Command, Pearl Harbor, HI.

Patrick Rowe,
Deputy Executive Director.

[FR Doc. E8-18364 Filed 8-7-08; 8:45 am]

BILLING CODE 6353-01-P